SECURITIES AND EXCHANGE COMMISSION

17 CFR Part 232

[Release Nos. 33-8255A; 34-48204A; 35-27700A; 39-2409A; IC-26103A]

RIN 3235-AG96

Adoption of Updated EDGAR Filer Manual

AGENCY: Securities and Exchange Commission.

ACTION: Final rule; correction.

SUMMARY: This document corrects the IC Release number to a final rule published in the Federal Register of July 31, 2003, regarding the Adoption of Updated EDGAR Filer Manual.

FOR FURTHER INFORMATION CONTACT: In the Office of Information Technology, Rick Heroux at (202) 942-8800; for questions concerning Investment Management company filings, Ruth Armfield Sanders, Senior Special Counsel, or Shaswat K. Das, Senior Counsel, Division of Investment Management, at (202) 942-0978; and for questions concerning Corporation Finance company filings, Herbert Scholl, Office Chief, EDGAR and Information Analysis, Division of Corporation Finance, at (202) 942-2940.

SUPPLEMENTARY INFORMATION: In FR Document No. 03-19087 beginning on page 44876 for Thursday, July 31, 2003, the IC Release number was incorrectly stated. The correct number is IC-26103.

Dated: September 4, 2003.
Margaret H. McFarland,
Deputy Secretary.

[FR Doc. 03-22980 Filed 9-9-03; 8:45 am]

BILLING CODE 8010-01-P